DEPARTMENT OF TRANSPORTATION

Office of the Secretary

Federal Environmental Statutes, Regulations, and Executive Orders Applicable to the Development and Review of Transportation Infrastructure Projects

AGENCY: Office of the Secretary, DOT.

ACTION: Notice of availability.

SUMMARY: The United States Department of Transportation (Department) has prepared a document listing Federal environmental statutes, regulations, and Executive Orders that establish requirements applicable to the development and review of transportation infrastructure projects. The Department strives to ensure compliance with these requirements in a manner that is both environmentally sound and expeditious. The goal of this document is to contribute to this important effort by providing a brief description of the primary statutes, regulations, and Executive Orders applicable to the development and review of these transportation infrastructure projects.

FOR FURTHER INFORMATION CONTACT: Amy Coyle, Senior Attorney Advisor, U.S. Department of Transportation, Office of the General Counsel; 1200 New Jersey Avenue SE., Washington, DC 20590. Telephone 202-366-0691.

SUPPLEMENTARY INFORMATION: The United States Department of Transportation (Department or DOT) has prepared a document listing Federal environmental statutes, regulations, and Executive Orders that establish requirements applicable to the development and review of transportation infrastructure projects that receive financial support from the Department. DOT strives to meet these requirements in a manner that is both environmentally sound and expeditious. The goal of this list is to contribute to this important effort by providing a brief description of the primary statutes, regulations, and Executive Orders applicable to the development and review of these transportation infrastructure projects. Additionally, many agencies have developed guidance to assist in implementation of the law, and this document references certain guidance. This summary is not, and should not be relied upon as, a complete list of statutes, regulations, and Executive Orders that could apply to a transportation infrastructure project or an official or independent interpretation or expression of policy on the matters summarized. This document replaces the notice, “Federal Environmental Laws and Executive Orders Applicable to Development and Review of Transportation Infrastructure Projects,” 69 FR 25451, May 6, 2004.

The document is available online at http://www.dot.gov/policy/transportation-policy/environment/laws.

Issued in Washington, DC on April 10, 2014.
Kathryn B. Thomson,
General Counsel.

[FR Doc. 2014-09219 Filed 4-22-14; 8:45 am]

BILLING CODE 4910-9X-P